DEPARTMENT OF HEALTH AND HUMAN SERVICES

Administration for Children and Families

Administration on Children, Youth and Families

AGENCY: Family and Youth Services Bureau, ACYF, ACF, DHHS.

ACTION: Notice to award 27 expansion supplements.

CFDA #: 93.616.

Legislative Authority: Social Security Act, Section 439, as amended by the Child and Family Services Improvement Act of 2006 (Pub. L. 109-288).

Project Period: September 30, 2008-September 29, 2009.

Amount of Award: $2,462,128.

SUMMARY: The Administration on Children, Youth and Families, Family and Youth Services Bureau (FYSB), herein announces the awarding of 27 program expansion supplemental awards in the amount of $2,462,128 in Fiscal Year (FY) 2008 funds to grantees under the Mentoring of Children of Prisoners (MCP) program. The additional funding will supplement awards to grantees that have demonstrated the capacity to make quality matches and currently are making significant process in reaching their match goal. The 27 supplemental awards will enable MCP grantees to reach more children of incarcerated parents who are in need of mentoring.

The following grantees are receiving program expansion supplemental funds for a 12-month project period of September 30, 2008-September 29, 2009:

Grantee organization | City, state | Amount
Big Brothers Big Sisters of Colorado (Pike's Peak) | Denver, CO | $10,000
Big Brothers Big Sisters of Northeastern Arizona | Show Low, AZ | 105,930
Travis High School Educational Foundation | Austin, TX | 60,000
Big Brothers Big Sisters of the Heart of Georgia | Macon, GA | 34,650
Big Brothers Big Sisters of San Diego County, Inc | San Diego, CA | 66,330
Big Brothers Big Sisters of Ventura County, Inc | Ventura, CA | 48,216
Clemson University | Clemson, GA | 56,473
Big Brothers Big Sisters of Eastern Missouri | St. Louis, MO | 198,000
Mother Seton House, Inc | Virginia Beach, VA | 27,128
City of Longview | Longview, TX | 42,575
Break the Barriers | Fresno, CA | 190,000
Big Brothers Big Sisters of Utah | Salt Lake City, UT | 99,000
Big Brothers Big Sisters of Massachusetts | Atlanta, GA | 63,831
Big Brothers Big Sisters of the Capital Region, Inc | Albany, NY | 76,598
Be-A-Friend Program, Inc., Big Brothers Big Sisters of Erie County | Buffalo, NY | 198,000
Children's Home Society | Charleston, WV | 72,971
United Communities of Southeast Philadelphia | Philadelphia, PA | 59,400
America on Track | Santa Ana, CA | 86,879
Big Brothers Big Sisters of Central California | Fresno, CA | 55,239
Big Brothers Big Sisters of Central Ohio | Columbus, OH | 150,000
Community Solutions of El Paso, Inc | El Paso, TX | 99,000
Families Under Urban and Social Attack | Houston, TX | 74,250
Deep East TX Council of Governments | Jasper, TX | 53,815
Big Brothers Big Sisters of Southeast Louisiana | New Orleans, LA | 170,000
Volunteers of America of Greater New Orleans | New Orleans, LA | 236,093
Serving Children and Adolescents in Need | Laredo, TX | 53,500
Hour Children, Inc | Long Island City, NY | 74,250

FOR FURTHER INFORMATION CONTACT: Curtis O. Porter, Acting Associate Commissioner, Family and Youth Services Bureau, 1250 Maryland Avenue, SW., Washington, DC 20024, Phone: 202-205-8102.

Dated: September 29, 2008.
Joan E. Ohl,
Commissioner, Administration on Children, Youth and Families.

[FR Doc. E8-23482 Filed 10-3-08; 8:45 am]

BILLING CODE 4184-01-P